DEPARTMENT OF LABOR

Employment and Training Administration

[TA-W-40,557]

Midwest Garment Co., Chesterfield, Missouri; Notice of Termination of Investigation

Pursuant to section 221 of the Trade Act of 1974, an investigation was initiated on January 14, 2002, in response to a worker petition which was filed by the company on behalf of workers at Midwest Garment Company, Chesterfield, Missouri.

The petitioner has requested that the petition be withdrawn. Consequently, further investigation in this case would serve no purpose, and the investigation has been terminated.

Signed in Washington, DC, this 15th day of January, 2002.
Linda G. Poole,
Certifying Officer, Division of Trade Adjustment Assistance.

[FR Doc. 02-1783 Filed 1-23-02; 8:45 am]

BILLING CODE 4510-30-M